DEPARTMENT OF HOMELAND SECURITY

Coast Guard

[USCG-2003-15797]

Final Environmental Impact Statement for the Proposed Lake Washington Ship Canal Bridge and Proposed Modification of the Duwamish Waterway Bridge

AGENCY: Coast Guard, DHS.

ACTION: Notice of availability; request for public comments.

SUMMARY: The Coast Guard announces the availability of a Final Environmental Impact Statement (EIS) for the Seattle Monorail Project “Green Line” in Seattle, Washington. The Coast Guard and the Seattle Monorail Project undertook the preparation of this Final EIS to satisfy the requirements of both the National Environmental Policy Act and the Washington State Environmental Policy Act for the proposed Green Line monorail project.

DATES: Comments and related material must reach the Docket Management Facility on or before April 19, 2004.

ADDRESSES: You may submit comments identified by Coast Guard docket number (USCG-2003-15797) to the Docket Management Facility at the U.S. Department of Transportation. To avoid duplication, please use only one of the following methods:

(1) Web site: http://dms.dot.gov.

(2) Mail: Docket Management Facility, (USCG-2003-15797), U.S. Department of Transportation, room PL-401, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

The Docket Management Facility maintains the public docket for this notice. Comments and material received from the public, as well as the Final EIS, will become part of this docket and will be available for inspection or copying at room PL-401 on the Plaza level of the Nassif Building, 400 Seventh Street, SW., Washington, DC, between 9 a.m. and 5 p.m., Monday through Friday, except Federal holidays. You may also find this docket, including the EIS, on the Internet at http://dms.dot.gov. Copies of the Final EIS are also available for inspection at the offices of the Seattle Monorail Project, 1904 Third Avenue, Suite 105, Seattle, WA 98191 (telephone (206) 328-1220), and are available at the City of Seattle public libraries, and at the U.S. Coast Guard Bridge Section, Commander (oan), Thirteenth Coast Guard District, 915 Second Avenue, Room 3510, Seattle, WA 98174-1067.

FOR FURTHER INFORMATION CONTACT: If you have questions on this notice, the proposed project, or the associated EIS, call Mr. Austin Pratt, Coast Guard, telephone (206) 220-7282. You may also request information from Helene Kornblatt, Seattle Monorail Project, telephone (206) 587-1743. If you have questions about viewing or submitting material to the docket, call Andrea M. Jenkins, Program Manager, Docket Operations, telephone 202-366-0271.

SUPPLEMENTARY INFORMATION:

Request for Comments

We welcome comments on this Final EIS. With your comment, please include your name and address, identify the docket number for this notice (USCG-2003-15797), and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The Seattle Popular Monorail Authority (SPMA) proposes to build a 14-mile monorail (the Green Line) in Seattle, Washington to provide transit service to a number of Seattle communities and destinations. The SPMA proposed the Green Line in accordance with the Seattle Citizens' Petition No. 1, which was passed by Seattle voters in November 2002. In Petition No. 1, voters adopted the Seattle Popular Monorail Plan, created the SPMA, required the SPMA to adopt and implement the Seattle Popular Monorail Plan, and authorized funding for the construction and operation of the Green Line as described in the Plan.

The proposed Green Line would run from the Ballard neighborhood of Seattle, through the Interbay and Ballard industrial areas, through downtown Seattle, through the South Downtown (SODO) industrial area, and then to the West Seattle neighborhood. The Green Line would connect the urban neighborhoods in Ballard and West Seattle with the industrial/manufacturing areas in the Interbay and SODO areas and with the downtown urban core and central business district of the City of Seattle.

The Green Line would use traditional monorail technology. The automated electric train would consist of several linked train cars running on rubber tires locked into an elevated guideway. The Green Line would include a new bridge, crossing the Lake Washington Ship Canal (near the existing Ballard Bridge), which would require both a bridge permit from the Coast Guard and an environmental review pursuant to the National Environmental Policy Act (NEPA). The Green Line would also cross the Duwamish Waterway on the existing West Seattle High-Rise Bridge. This second crossing may also require a bridge permit from the Coast Guard, depending on final design drawings. In order to evaluate the indirect and cumulative environmental impacts of the Coast Guard's bridge permit actions, the Coast Guard and the SPMA included the entire 14-mile Green Line proposal in the Final EIS.

Final Environmental Impact Statement

The Coast Guard and the Seattle Monorail Project undertook the preparation of this Final EIS to satisfy the requirements of both the NEPA and the Washington State Environmental Policy Act for the proposed Green Line monorail project. The analysis for this EIS is divided into six geographical segments: Ballard, Interbay/Magnolia, Queen Anne/Seattle Center/Belltown, Downtown/Pioneer Square, SODO/Chinatown International District/Pioneer Square, and West Seattle. Each segment is then divided into multiple alignments, to include a preferred alignment. The Final EIS examines in detail the alternative and preferred alignments for each segment and a no action alternative. Evaluation of the no action alternative, defined as the transportation system and environment as they would exist without the Green Line, provides a baseline for comparing the impacts associated with the proposed action.

Dated: March 9, 2004.
N.E. Mpras,
Chief, Office of Bridge Administration, U.S. Coast Guard.

[FR Doc. 04-5916 Filed 3-18-04; 8:45 am]

BILLING CODE 4910-15-P